SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: January 1, 2009, through April 30, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals Issued

Approvals By Rule Issued Under 18 CFR 806.22(e)

1. Church & Dwight Co., Inc., Arm and Hammer, ABR20081205, Jackson Township, York County, PA, Consumptive Use of Up to 0.420 mgd, Approval Date: January 14, 2009.

2. ADM Cocoa, ADM Cocoa—Hazleton, PA, ABR20090302, Hazle Township, Luzerne County, PA, Consumptive Use of Up to 0.160 mgd, Approval Date: March 24, 2009.

Approvals By Rule Issued Under 18 CFR 806.22(f)

1. Alta Operating Company, LLC, Webster #1, ABR20090401, Franklin Township, Susquehanna County, PA, Consumptive Use of Up to 0.990 mgd, Approval Date: April 6, 2009.

2. Alta Operating Company, LLC, Holbrook #1, ABR20090402, Bridgewater Township, Susquehanna County, PA, Consumptive Use of Up to 0.999 mgd, Approval Date: April 6, 2009.

3. Alta Operating Company, LLC, Turner #1, ABR20090403, Liberty Township, Susquehanna County, PA, Consumptive Use of Up to 0.999 mgd, Approval Date: April 6, 2009.

4. Alta Operating Company, LLC, Fiondi #1, ABR20090404, Middletown Township, Susquehanna County, PA, Consumptive Use of Up to 0.999 mgd, Approval Date: April 6, 2009.

5. Anadarko E&P Company, LP, COP Tract 653 (1000), ABR20090405, Beech Creek Township, Clinton County, PA, Consumptive Use of Up to 1.680 mgd, Approval Date: April 6, 2009.

6. Anadarko E&P Company, LP, COP Tract 231 (1000), ABR20090406, Boggs Township, Centre County, PA, Consumptive Use of Up to 1.680 mgd, Approval Date: April 6, 2009.

7. Anadarko E&P Company, LP, Larry's Creek F&G #1, ABR20090407, Cummings Township, Lycoming County, PA, Consumptive Use of Up to 1.680 mgd, Approval Date: April 6, 2009.

8. Anadarko E&P Company, LP, COP Tract 285 (1000), ABR20090408, Grugan Township, Clinton County, PA, Consumptive Use of Up to 1.680 mgd, Approval Date: April 6, 2009.

9. Anadarko E&P Company, LP, Penn State Forest Tract 289 #1, ABR20090409, McHenry Township, Lycoming County, PA, Consumptive Use of Up to 1.680 mgd, Approval Date: April 6, 2009.

10. Anadarko E&P Company, LP, COP Tract 289 #1000H and #1001H, ABR20090410, McHenry Township, Lycoming County, PA, Consumptive Use of Up to 5.000 mgd, Approval Date: April 6, 2009.

11. Anadarko E&P Company, LP, Larry's Creek F&G #2H, ABR20090411, Cummings Township, Lycoming County, PA, Consumptive Use of Up to 5.000 mgd, Approval Date: April 6, 2009.

12. Anadarko E&P Company, LP, COP Tract 231 #1001H and #1002H, ABR20090412, Snow Shoe Township, Centre County, PA, Consumptive Use of Up to 5.000 mgd, Approval Date: April 6, 2009.

13. Anadarko E&P Company, LP, COP Tract 285 #1001H and #1002H, ABR20090413, Grugan Township, Clinton County, PA, Consumptive Use of Up to 5.000 mgd, Approval Date: April 6, 2009.

14. Anadarko E&P Company, LP, COP Tract 653 #1001H, ABR20090414, Beech Creek Township, Clinton County, PA, Consumptive Use of Up to 5.000 mgd, Approval Date: April 6, 2009.

15. Anadarko E&P Company, LP, COP Tract 653 #1002H, ABR20090415, Beech Creek Township, Clinton County, PA, Consumptive Use of Up to 5.000 mgd, Approval Date: April 6, 2009.

16. Anadarko E&P Company, LP, Larry's Creek F&G #3H, ABR20090416, Cummings Township, Lycoming County, PA, Consumptive Use of Up to 5.000 mgd, Approval Date: April 6, 2009.

17. Carrizo Oil & Gas, Inc., Cowfer #1, ABR20090417, Rush Township, Centre County, PA, Consumptive Use of Up to 0.999 mgd, Approval Date: April 6, 2009.

18. Eastern American Energy Corporation, Whitetail Gun & Rod Club #1, ABR20090418, Goshen Township, Clearfield County, PA, Consumptive Use of Up to 0.900 mgd, Approval Date: April 6, 2009.

19. EOG Resources, Inc., Houseknecht #2H, ABR20090419, Springfield Township, Bradford County, PA, Consumptive Use of Up to 0.490 mgd, Approval Date: April 6, 2009.

20. EOG Resources, Inc., Houseknecht C 1V, ABR20090420, Springfield Township, Bradford County, PA, Consumptive Use of Up to 0.099 mgd, Approval Date: April 6, 2009.

21. EOG Resources, Inc., Ward M 1H, ABR20090421, Springfield Township, Bradford County, PA, Consumptive Use of Up to 0.490 mgd, Approval Date: April 6, 2009.

22. EOG Resources, Inc., Houseknecht 3H, ABR20090422, Springfield Township, Bradford County, PA, Consumptive Use of Up to 0.490 mgd, Approval Date: April 6, 2009.

23. EOG Resources, Inc., Houseknecht 1H, ABR20090423, Springfield Township, Bradford County, PA, Consumptive Use of Up to 0.499 mgd, Approval Date: April 6, 2009.

24. EOG Resources, Inc., PHC 3H, ABR20090424, Lawrence Township, Clearfield County, PA, Consumptive Use of Up to 0.499 mgd, Approval Date: April 6, 2009.

25. EXCO-North Coast Energy, Inc., Litke (1H and 2H), ABR20090425, Burnside Township, Centre County, PA, Consumptive Use of Up to 2.000 mgd, Approval Date: April 6, 2009.

26. EXCO-North Coast Energy, Inc., Litke (7H and 8H), ABR20090426, Burnside Township, Centre County, PA, Consumptive Use of Up to 2.000 mgd, Approval Date: April 6, 2009.

27. EXCO-North Coast Energy, Inc., Sterling Run Club #4, ABR20090427, Burnside Township, Centre County, PA, Consumptive Use of Up to 1.000 mgd, Approval Date: April 6, 2009.

28. EXCO-North Coast Energy, Inc., Sterling Run Club #5, ABR20090428, Burnside Township, Centre County, PA, Consumptive Use of Up to 1.000 mgd, Approval Date: April 6, 2009.

29. EXCO-North Coast Energy, Inc., Derrick Unit #1, ABR20090429, Franklin Township, Lycoming County, PA, Consumptive Use of Up to 1.600 mgd, Approval Date: April 6, 2009.

30. EXCO-North Coast Energy, Inc., Snyder Unit #1, ABR20090430, Franklin Township, Lycoming County, PA, Consumptive Use of Up to 1.600 mgd, Approval Date: April 6, 2009.

31. EXCO-North Coast Energy, Inc., Litke (14H, 15H, 16H), ABR20090431, Burnside Township, Centre County, PA, Consumptive Use of Up to 5.000 mgd, Approval Date: April 6, 2009.

32. Seneca Resources Corporation, DCNR 595 1V, ABR20090432, Bloss Township, Tioga County, PA, Consumptive Use of Up to 0.099 mgd, Approval Date: April 6, 2009.

33. Seneca Resources Corporation, Wilcox (TEOG 1), ABR20090433, Covington Township, Tioga County, PA, Consumptive Use of Up to 0.099 mgd, Approval Date: April 6, 2009.

34. Seneca Resources Corporation, Hemenway (TSRC 1), ABR20090434, Charleston County, Tioga County, PA, Consumptive Use of Up to 0.099 mgd, Approval Date: April 6, 2009.

35. Seneca Resources Corporation, DCNR 293, ABR20090435, Cummings Township, Lycoming County, PA, Consumptive Use of Up to 0.099 mgd, Approval Date: April 6, 2009.

36. Seneca Resources Corporation, DCNR 100 1V, ABR20090436, Lewis Township, Lycoming County, PA, Consumptive Use of Up to 0.099 mgd, Approval Date: April 6, 2009.

37. Southwestern Energy Production Co., Greenzweig [1 (706575)], ABR20090437, Herrick Township, Bradford County, PA, Consumptive Use of Up to 1.750 mgd, Approval Date: April 6, 2009.

38. Southwestern Energy Production Co., Range No. (1 and 1H), ABR20090438, New Milford Township, Susquehanna County, PA, Consumptive Use of Up to 1.750 mgd, Approval Date: April 6, 2009.

39. Southwestern Energy Production Co., Price No. 1 Vertical and Horizontal, ABR20090439, Lenox Township, Susquehanna River, PA, Consumptive Use of Up to 1.750 mgd, Approval Date: April 6, 2009.

40. Anadarko E&P Company, LP, COP Tract 259 #1001H, ABR20090440, Burnside Township, Centre County, PA, Consumptive Use of Up to 5.000 mgd, Approval Date: April 27, 2009.

41. Anadarko E&P Company, LP, COP Tract 259 #1002H, ABR20090441, Burnside Township, Centre County, PA, Consumptive Use of Up to 5.000 mgd, Approval Date: April 27, 2009.

42. Anadarko E&P Company, LP, R. Carlin #1H, ABR20090442, Snow Shoe Township, Centre County, PA, Consumptive Use of Up to 5.000 mgd, Approval Date: April 27, 2009.

43. Anadarko E&P Company, LP, R. Carlin #2H and #3H, ABR20090443, Snow Shoe Township, Centre County, PA, Consumptive Use of Up to 5.000 mgd, Approval Date: April 27, 2009.

44. Anadarko E&P Company, LP, COP Tract 252 #1000H, ABR20090444, Grugan Township, Clinton County, PA, Consumptive Use of Up to 5.000 mgd, Approval Date: April 27, 2009.

45. Anadarko E&P Company, LP, COP Tract 252 #1001H and #1002H, ABR20090445, Grugan Township, Clinton County, PA, Consumptive Use of Up to 5.000 mgd, Approval Date: April 27, 2009.

Authority: Public Law 91-575, 84 Stat. 1509 et seq., 18 CFR Parts 806, 807, and 808.

Dated: May 6, 2009.
Thomas W. Beauduy,
Deputy Director.

[FR Doc. E9-12047 Filed 5-22-09; 8:45 am]

BILLING CODE 7040-01-P